OFFICE OF PERSONNEL MANAGEMENT

Notice of Submission for Approval: Information Collection 3206-0266; Privacy Act Request for Completed Standard Form SF85/SF85P/SF86, INV 100A

AGENCY: U.S. Office of Personnel Management.

ACTION: 60-Day notice and request for comments.

SUMMARY: Federal Investigative Services (FIS), U.S. Office of Personnel Management (OPM) is notifying the general public and other Federal agencies that OPM is seeking Office of Management and Budget (OMB) approval for renewal of information collection control number 3206-0266, Privacy Act Request for Completed Standard Form SF85/SF85P/SF86, INV 100A. OPM is soliciting comments for this collection as required by the Paperwork Reduction Act of 1995, (Pub. L. 104-13, 44 U.S.C. chapter 35), as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 18, 2016. This process is conducted in accordance with 5 CFR 1320.8(d).

ADDRESSES: Interested persons are invited to submit written comments on the proposed information collection to the Federal Investigative Services, U.S. Office of Personnel Management, 1900 E Street NW., Washington, DC 20415, Attention: Donna McLeod or by electronic mail at FISFormsComments@opm.gov.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: The Privacy Act Request for Completed Standard Form SF85/SF85P/SF86, INV 100A, is an information collection completed by individuals seeking access their most recently completed SF85, SF85P, or SF86 that was used to initiate a background investigation performed by the Office of Personnel Management (OPM), Federal Investigative Services (FIS). OPM FIS's Freedom of Information and Privacy Act (FOI/PA) office utilizes the optional form INV 100A to standardize the collection of data elements specific to Privacy Act record requests for previously completed standard forms only. Current Privacy Act record requests are submitted to FIS-FOI/PA in a format chosen by the requester. Often the requests are missing data elements which require contact with the requester, thereby adding processing time. Standardization of the data elements collected can assist with providing timely responses and FIS-FOI/PA being able to verify the identity of the requester thereby ensuring Privacy Act Protected records are not inappropriately released to third parties.

OPM proposes no changes to the form.

Analysis

Agency: Federal Investigative Services, U.S. Office of Personnel Management.

Title: Privacy Act Request for Completed Standard Form SF85/SF85P/SF86, INV 100A.

OMB Number: 3206-0266.

Affected Public: Individuals submitting Privacy Act record requests for completed Standard Form SF85/SF85P/SF86 to FIS-FOI/PA.

Number of Respondents: 15,682.

Estimated Time per Respondent: 5 minutes.

Total Burden Hours: 1,307.

U.S. Office of Personnel Management.
Beth F. Cobert,
Acting Director.

[FR Doc. 2016-03125 Filed 2-12-16; 8:45 am]

BILLING CODE 6325-53-P